DEPARTMENT OF TRANSPORTATION

Federal Aviation Administration

14 CFR Part 39

[Docket No. FAA-2013-0882; Directorate Identifier 2013-NE-29-AD; Amendment 39-17864; AD 2014-12-03]

RIN 2120-AA64

Airworthiness Directives; Rolls-Royce Deutschland Ltd & Co KG Turbofan Engines

AGENCY: Federal Aviation Administration (FAA), DOT.

ACTION: Final rule.

SUMMARY: We are adopting a new airworthiness directive (AD) for all Rolls-Royce Deutschland Ltd & Co KG (RRD) BR700-725A1-12 turbofan engines. This AD requires removal of affected fuel metering units (FMUs) on RRD BR700-725A1-12 engines. This AD was prompted by reports of wear on the receptors of the double-ended unions in the FMU housing on BR700-725A1-12 engines causing fuel leakage. We are issuing this AD to prevent failure of the FMU, which could lead to damage to one or more engines and damage to the airplane.

DATES: This AD becomes effective July 17, 2014.

ADDRESSES: For service information identified in this AD, contact Rolls-Royce Deutschland Ltd & Co KG, Eschenweg 11, Dahlewitz, 15827 Blankenfelde-Mahlow, Germany; phone: 49 0 33-7086-1883; fax: 49 0 33-7086-3276. You may view this service information at the FAA, Engine & Propeller Directorate, 12 New England Executive Park, Burlington, MA 01803. For information on the availability of this material at the FAA, call 781-238-7125.

Examining the AD Docket

You may examine the AD docket on the Internet at http://www.regulations.gov by searching for and locating Docket No. FAA-2013-0882; or in person at the Docket Management Facility between 9 a.m. and 5 p.m., Monday through Friday, except Federal holidays. The AD docket contains this AD, the mandatory continuing airworthiness information (MCAI), the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Michael Davison, Aerospace Engineer, Engine Certification Office, FAA, Engine & Propeller Directorate, 12 New England Executive Park, Burlington, MA 01803; phone: (781) 238-7156; fax: (781) 238-7199; email: michael.davison@faa.gov.

SUPPLEMENTARY INFORMATION:

Discussion

We issued a notice of proposed rulemaking (NPRM) to amend 14 CFR part 39 by adding an AD that would apply to the specified products. The NPRM was published in the Federal Register on February 14, 2014 (79 FR 8905). The NPRM proposed to correct an unsafe condition for the specified products. The MCAI states:

Occurrences have been reported of finding wear on the receptors of the double-ended unions in the Fuel Metering Unit (FMU) housing on BR700-725A1-12 engines.

This condition, if not corrected, could lead to fuel leak resulting in engine in-flight shutdown and consequent reduced control of the aeroplane.

Comments

We gave the public the opportunity to participate in developing this AD. We received no comments on the NPRM (79 FR 8905, February 14, 2014).

Conclusion

We reviewed the available data and determined that air safety and the public interest require adopting this AD as proposed.

Costs of Compliance

We estimate that this AD affects 24 RRD turbofan engines installed on aircraft of U.S. registry. We also estimate that it would take about 6 hours per engine to comply with this AD. The average labor rate is $85 per hour. Required parts cost about $293,960 per engine. Based on these figures, we estimate the cost of this AD on U.S. operators to be $7,067,280.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska to the extent that it justifies making a regulatory distinction, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-12-03 Rolls-Royce Deutschland Ltd & Co KG: Amendment 39-17864; Docket No. FAA-2013-0882; Directorate Identifier 2013-NE-29-AD.

(a) Effective Date

This AD becomes effective July 17, 2014.

(b) Affected ADs

None.

(c) Applicability

This AD applies to all Rolls-Royce Deutschland Ltd & Co KG (RRD) BR700-725A1-12 turbofan engines.

(d) Reason

This AD was prompted by reports of wear on the receptors of the double-ended unions in the fuel metering unit (FMU) housing on RRD BR700-725A1-12 engines causing fuel leakage. We are issuing this AD to prevent failure of the FMU, which could lead to damage to one or more engines and damage to the airplane.

(e) Actions and Compliance

Comply with this AD within the compliance times specified, unless already done.

(1) After the effective date of this AD, before the FMU has accumulated 650 flight hours (FHs) since new, or within 30 days, whichever occurs later, remove FMU, part number (P/N) G3000FMU02 or P/N G3000FMU03, and replace it with a part eligible for installation.

(2) Thereafter, remove the FMU at intervals not to exceed 650 FHs and replace it with a part eligible for installation.

(f) Installation Prohibition

After the effective date of this AD, do not install FMU, P/N G3000FMU02, onto any engine, or install any engine with FMU, P/N G3000FMU02, onto any airplane.

(g) Definition

For the purpose of this AD, an FMU eligible for installation is a new FMU or an FMU with P/N G3000FMU03 that has accumulated fewer than 650 FHs since installation on any airplane or since last repair using RRD Alert Non-Modification Service Bulletin (NMSB) No. SB-BR700-73-A900309, Revision 1, dated November 8, 2013.

(h) Alternative Methods of Compliance (AMOCs)

The Manager, Engine Certification Office, may approve AMOCs for this AD. Use the procedures found in 14 CFR 39.19 to make your request.

(i) Related Information

(1) For more information about this AD, contact Michael Davison, Aerospace Engineer, Engine Certification Office, FAA, Engine & Propeller Directorate, 12 New England Executive Park, Burlington, MA 01803; phone: (781) 238-7156; fax: (781) 238-7199; email: michael.davison@faa.gov.

(2) Refer to MCAI European Aviation Safety Agency AD 2013-0229R1, dated November 21, 2013 for more information. You may examine the MCAI in the AD docket on the Internet by searching for it and locating it in Docket No. FAA-2013-0882.

(3) RRD Alert NMSB No. SB-BR700-73-A900309, Revision 1, dated November 8, 2013, which is not incorporated by reference in this AD, can be obtained from RRD, using the contact information in paragraph (i)(4) of this AD.

(4) For service information identified in this AD, contact Rolls-Royce Deutschland Ltd & Co KG, Eschenweg 11, Dahlewitz, 15827 Blankenfelde-Mahlow, Germany; phone: 49 0 33-7086-1944; fax: 49 0 33-7086-3276.

(5) You may view this service information at the FAA, Engine & Propeller Directorate, 12 New England Executive Park, Burlington, MA. For information on the availability of this material at the FAA, call 781-238-7125.

(j) Material Incorporated by Reference

None.

Issued in Burlington, Massachusetts, on June 3, 2014.
Colleen M. D'Alessandro,
Assistant Directorate Manager, Engine & Propeller Directorate, Aircraft Certification Service.

[FR Doc. 2014-13532 Filed 6-11-14; 8:45 am]

BILLING CODE 4910-13-P